POSTAL SERVICE

Sunshine Act Meeting; Temporary Emergency Committee of the Board of Governors

TIME AND DATE: Tuesday, June 21, 2016, at 1 p.m.

PLACE: Las Vegas, Nevada, and via Teleconference.

STATUS: Closed.

MATTERS TO BE CONSIDERED: Tuesday, June 21, 2016, at 1 p.m.

1. Strategic Issues.

2. Financial Matters.

3. Pricing.

4. Personnel Matters and Compensation Issues.

5. Executive Session—Discussion of prior agenda items.

General Counsel Certification: The General Counsel of the United States Postal Service has certified that the meeting may be closed under the Government in the Sunshine Act.

CONTACT PERSON FOR MORE INFORMATION: Julie S. Moore, Secretary of the Board, U.S. Postal Service, 475 L'Enfant Plaza SW., Washington, DC 20260-1000. Telephone: (202) 268-4800.

Julie S. Moore.
Secretary.

[FR Doc. 2016-13488 Filed 6-3-16; 11:15 am]

BILLING CODE 7710-12-P